DEPARTMENT OF DEFENSE

Department of the Army

Army Science Board Plenary Meeting

AGENCY: Department of the Army, DoD.

ACTION: Notice of open meeting.

SUMMARY: Pursuant to the Federal Advisory Committee Act of 1972 (5 U.S.C., Appendix, as amended), the Sunshine in the Government Act of 1976 (U.S.C. 552b, as amended) and 41 Code of the Federal Regulations (CFR 102-3. 140 through 160, the Department of the Army announces the following committee meeting:

Name of Committee: Army Science Board (ASB).

Date(s) of Meeting: January 15 & 16, 2008.

Time(s) of Meeting: 0800-1700, January 15, 2008.

0800-1600, January 16, 2008.

Place of Meeting: University of Maryland University College (UMUC) Inn and Conference Center, Adelphi, MD. 3501 University Boulevard E, Adelphi, MD.

FOR FURTHER INFORMATION CONTACT: For information please contact Ms. Sharon Harvey at sharon.harvey1@us.army.mil or (703) 604-7466 or Mr. Wayne Joyner at wayne.joyner@saalt.army.mil or (703) 604-7490.

SUPPLEMENTARY INFORMATION: Proposed Agenda: The Army Science Board will meet on January 15 & 16, 2008 at the University of Maryland University College (UMUC) Inn and Conference Center. Purpose of the meeting on both days is to allow each study; Generation Force Functional Census, Institutionalized Lifecycle Management of Innovation Organizations, Information Operations, and Persistent CSR to collect data and hold discussions as it relates to each individual study.

Brenda S. Bowen,
Army Federal Register Liaison Officer.

[FR Doc. E7-24151 Filed 12-12-07; 8:45 am]

BILLING CODE 3710-08-P